DEPARTMENT OF DEFENSE

Department of the Air Force

[No. USAF-2006-0018]

Proposed Collection; Comment Request

AGENCY: Department of the Air Force, DoD.

ACTION: Notice.

SUMMARY: In compliance with Section 3506(c)(2)(A) of the Paperwork Reduction Act of 1995, Headquarters Air Force Recruiting Service announces the proposed extension of a previously approved public information collection and seeks public comment on the provisions thereof. Comments are invited on: (a) Whether the proposed collection of information is necessary for the proper performance of the functions of the agency, including whether the information shall have practical utility; (b) the accuracy of the agency's estimate of the burden of the proposed information collection; (c) ways to enhance the quality, unity, and clarity of the information to be collected; (d) ways to minimize the burden of the information collection on respondents, including the use of automated collection techniques or other forms of information technology.

DATES: Consideration will be given to all comments received by April 6, 2007.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Department of Defense, HQ AFRS/RSOC, 550 D Street West, Suite 1, Randolph AFB TX 78150-4527, or call HQ AFRS/RSOC, Officer Accessions Branch at (210) 652-4334.

Title, Associated Form, and OMB Number: Air Force Officer Training School Accession Forms; AFRS IMT 1413 and AF Form 215; OMB Control Number 0701-0080.

Needs and Uses: These forms are used by field recruiters and education counselors in the processing of Officer Training School (OTS) applications.

Affected Public: Individuals or households.

Annual Burden Hours: 500.

Number of Respondents: 500.

Responses per Respondent: 1.

Average Burden per Response: 1 hour.

Frequency: On occasion.

SUPPLEMENTARY INFORMATION:

Summary of Information Collection

Respondents are civilian and active-duty candidates applying for a commission in the United States Air Force. These forms provide pertinent information to facilitate selection of candidates for commission.

Dated: January 22, 2007.
Patricia L. Toppings,
Alternate OSD Federal Register, Liaison Officer, Department of Defense.

[FR Doc. 07-477 Filed 2-2-07; 8:45 am]

BILLING CODE 5001-06-M